DEPARTMENT OF HEALTH AND HUMAN SERVICES

National Institutes of Health

Prospective Grant of Exclusive License: “Optical Fiber Probe and Methods for Measuring Optical Properties”

AGENCY: National Institutes of Health, Public Health Service, DHHS.

ACTION: Notice.

SUMMARY: This is notice, in accordance with 35 U.S.C. 209(c)(1) and 37 CFR 404.7(a)(1)(i), that the National Institutes of Health (NIH), Department of Health and Human Services, is contemplating the grant of an exclusive license to practice the inventions embodied in: U.S. Patent Application No. 09/428,832 “Optical Fiber Probe and Methods for Measuring Optical Properties” filed October 28, 1999, taking priority from U.S. Provisional Application No. 60/105,945 filed October 28, 1998, to AzurTec, Inc. with a place of business in Newtown, Pennsylvania. The United States of America is an assignee to the patent rights of these inventions.

The contemplated exclusive license may be limited to the use of metachromatic dye staining in the diagnosis and treatment of cervical, oral pharyngeal, bladder and gastrointestinal cancer.

DATES: Only written comments and/or applications for a license that are received by the NIH Office of Technology Transfer on or before July 16, 2001 will be considered.

ADDRESSES: Requests for a copy of the patent application, inquiries, comments and other materials relating to the contemplated license should be directed to: Dale D. Berkley, Ph.D., J.D. Technology Licensing Specialist, Office of Technology Transfer, National Institutes of Health, 6011 Executive Boulevard, Suite 325, Rockville, MD 20852-3804; Telephone: (301) 496-7056, ext. 223; Facsimile: (301) 402-0220; E-mail: berkleyd@od.nih.gov. A signed Confidential Disclosure Agreement will be required to receive copies of the patent application.

SUPPLEMENTARY INFORMATION: The invention is a probe for the characterization of optical scattering and absorption properties of a sample illuminated by an illumination fiber situated next to at least two collection fibers. The collection fibers are spaced at various distances from the illumination fiber, and fluorescence spectra are typically measured using the invention. Linear and concentric arrangements of the collecting fibers are employed in the invention to obtain an intensity distribution of diffusely reflected light, which distribution can be used to distinguish samples of different tissues for medical purposes.

The prospective exclusive license will be royalty-bearing and will comply with the terms and conditions of 35 U.S.C. 209 and 37 CFR 404.7. The prospective exclusive license may be granted unless, within 60 days from the date of this published Notice, NIH receives written evidence and argument that establishes that the grant of the license would not be consistent with the requirements of 35 U.S.C. 209 and 37 CFR 404.7.

Properly filed competing applications for a license filed in response to this notice will be treated as objections to the contemplated license. Comments and objections submitted in response to this notice will not be made available for public inspection, and, to the extent permitted by law, will not be released under the Freedom of Information Act, 5 U.S.C. 552.

Dated: May 7, 2001.
Jack Spiegel,
Director, Division of Technology Development and Transfer, Office of Technology Transfer.

[FR Doc. 01-12125 Filed 5-14-01; 8:45 am]

BILLING CODE 4140-01-P